DEPARTMENT OF THE TREASURY

Internal Revenue Service

Quarterly Publication of Individuals Who Have Chosen To Expatriate

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2013. For purposes of this listing, long-term residents, as defined in section 877(e)(2), are treated as if they were citizens of the United States who lost citizenship.

Last name | First name | Middle name/initials
ADLER | MICHELE |
AMANPOUR | FERESHTEH |
AMBANI | ANANT | MUKESH
ANDEREGG | MICHAEL | OLIVIER
ANDERSEN | STEEN | CHRISTIAN
ANDERSON | M. ANDREW |
ANG | DEZARAE | SHUE YEN
ANG | RYAN | JIA-HAO
ANTUNES | NOAH | BENJAMIN BONOMI
ARN | CHRISTOPH | HUGO
ARN | NIKLAUS | PETER
AU | ANITA | YUEN WAI
BACHMANN | JOCELYNE | GERALDE
BACKHAMRE | INGVAR |
BACKHAMRE | KATARINA | ULLA BERIT
BADRAN | HANAN |
BANCSI | JOHN | JOSEPH
BANKES | RHYDIAN | NICHOLAS WYNNE
BASILA | NANCY |
BASLER | MICHELLE | CAROLINE
BASSIL | FRANCOIS | SEMAAN
BAUMANN | SIMON | DAVID
BECKERMANN | KAREN | MARIA
BEDROSSIAN | NATHAN | ALEXIS
BEECROFT | KATHLEEN | ANNE
BEINE | RENEE | CAROLYN
BELAND | RENEE |
BENDER | JOHN |
BENDIKSEN | GUNNAR |
BENZIAN | KAREN | SUE
BER | LORI | SUE
BER | SAMUEL |
BERG | JENS | PETER NEMETH
BERTRAND | NICOLE | MICHELLE FIGUEROA
BEYER | MARIELLE | CAMILLA
BEYERLY | ANNE |
BIBLER | JARED | EVAN
BILLIE | JERAI | DIMITRIS
BINFALAK | MHAMMED | SUBAIH
BIRCHLER | WALTER |
BLATTMANN | BEAT | OLIVER
BLOECHLINGER | PATRICIA | GABRIELLE
BLOUNT | ALEXANDER | BERNARD
BLUM | ANNE | ELISABETH
BLUM | NIKLIS | ALEXANDER
BOCK | MICHAEL | EDWARD
BODENMANN | ANDREAS | MICHAEL
BODMER | SARAH | ELISABETH
BOGER | MICHAEL | STEPHEN
BOHN | THOMAS | TAINER
BOLLA | RAJIV |
BOLLI | MARIANNE | I J
BOPP | ANDREAS | DOUGLAS
BOURGEOIS | RUTH | JUNE
BOYE | WILLIAM |
BRADLEY | LISA | ANNE
BRAENDLI | PATRICK |
BRANCH | GREGORY | WILLIAM
BRANDTNER | PETER |
BRANSON | SONYA | ELISABETH
BRENNINKMEYER | WILLIBRORDUS | JULIUS
BRODIN | PETER | LENNART
BROERE | JOHN | GUNARS
BROWN | RONALD | DOUGLAS
BRUNS-GSCHWINDT | EVELYN | BARBARA
BRYCE | JULIAN | HOWARD
BUCHMANN | LARS | BORIS
BUECHI | JOHN | OSCAR
BURGER | SUSANNE |
BURNAND | LEA | TAHIRIH
BURNS | JOHN | POND
CADALBERT | IRENE | EVA
CAIRNS | CAROLYN | JANE
CALDWELL | PETER | LLEWELLYN
CARDONA | INGE | BERTHA
CARDONA | MANUEL |
CARINO | CAREN |
CARLSTROM | DENNIS | LOREN
CARNAL | MAURICE | MARTIN
CARNES | RUNA | LAILA
CARTMELL | BRIAN | ROSS
CASARI-STIERLIN | ANNE |
CATARINO | ULRIKA | GUN
CHAN | ANDREW | KING YUE
CHAN | BRIAN | YIK MING
CHAN | ROIS | L S
CHAN | SIMON | SIU-MING
CHANG | GAYLE | SHIMING
CHAO | ALAN | CHIEN
CHAO | JING | AMY
CHAPNICK | ADAM | HARRIS
CHASE | ELIZABETH | ANN
CHEN | GILLIAN | YI MIN
CHEN | PIN | JET
CHEUNG | DONNA | HOI LING
CHEUNG | KWOK | MING
CHEUNG | TERESA | LUMING
CHEUNG | WILSON | KA HO
CHI | JONATHON | TECK CHENG
CHIA | TOMMY | MING FAT
CHIANG | CHENG | LONG
CHIANG | CHIH | C
CHIAO | JANICE |
CHONG | KOH | WIL
CHOU | SHU | HUNG ANTHONY
CHOW | GENEVIEVE | KARWING
CHOW | YEE | LING
CHOY | CHLOE | HUI LING
CHU | FRANCES | SRI ENDANGSIH
CHUANG | GRACE | TWONCY
CHUANG | HARRY | HAKLAY
CHUNG | ANDREW |
CLAPP | SUZANNE | HALLILEY
CLARK | GEORGE | WENDELL
CLAUSEN | MARI | MARGARET
COCHRAN | AMADEUS | THOMAS
COLLOREDO-MANNSFELD | JEROME | W M
COLWELL | CURTIS | BRADFORD
CORAY-LUSSI | SUSANNA | C
CORSON | MAURA | HAYES
CORSON | ROBERT | WILSON
CROSBY | BRUCE | ALAN
CROWN | TERESA | ANN
CURTIS | BRET | EDMUND
DA MUTTEN | SILVIA | ANITA ZEIER
D'ALVIELLA | FELIX | A J J GOBLET
DAN | CAMILLE | MARI-ANNE
DANIEL | BERTRAND | PHILIPPE
DAVIS III | QUINCY | SPENCER
DE BORCHGRAVE | NICOLE |
DE FOESTRAETS | RAOUL |
DE HESSE | ALEXANDER |
DE MOUSTIER | AGNES |
DE PAREDES | GASPAR | MANUEL GARCIA
DE SOUSA | PAULO | J N MOITA TEIXEIRA
DE TERWANGNE | PHYLLIS | ANN
DEL MARMOL | MARY-ANN ELISABETH | ELISABETH
DEL MARMOL | MURIEL | DIANE ISABELLE MARY
DELEHANTY | BRENDAN | MARTIN
DEMMERLE | MICHAEL | RICHARD
DENNEY | MARK | ALBERT
DERRON | DOMINIQUE | CATHERINE
DERRON | MARIANNE |
DESCHAMPS | SEBASTIEN | MARIE
DESMARAIS | KATHRYN | MARIE
DEVLIN | PATRICIA | LOUISE
DEVOTO | ALEXANDER | WILLIAM GREGORY
DEVOTO | LAURENCE | INGRAM CHARLES
DI BERNARDO | JANINE |
DICK | JAMES | RANDOLPH
DORSEN | SHEILA | PATRICIA
DRAKE | PLEASANTINE |
DREW | DANIEL | MC CALL
D'SOUZA | MOHAN | JAMES
DUENKI | ANN | M
DUROYON | THOMAS | FRANCOIS
EFENDIC | ADMIR |
EHRHARDT | ALEXANDER | JOACHIM ROLF
ELDHOLM | SVERRE | BERTIN
ENDSJO | DAG | OISTEIN
ENREGLE | DIANE |
FAN | HAI | LUNG
FARMAN | HANS |
FARTHING | ANDREW | ROBERT
FEIS-THOMERSON | TANIA | RENEE MATTIE
FELIX | ANDREAS | DANIEL
FEVRIER | CLAIR | ANITA
FISCHLER | DEBORAH |
FLEMING | RACHEL | POLLARD
FLUECKIGER | MICHELLE | FABIENNE
FOLTZ | DONALD | ANDREW
FORCELLA | PETER | WERNER
FOSTER | LORA | ANN
FRAUMAN | DAVID | CHARLES LAWRENCE
FRIES | SYBILLA | CORDELIA
FUCHS | CAROLINE | HELEN
FUGLEVIK | HEATHER |
FUNG | CHRISTINE | SAUTTING
FUNG | DENNIS |
FUNG | SPENCER | THEODORE
GABBAY | MARK | NADAV
GABRELUK | FRANK | GEORGE
GAGE | PETER | CONRAD
GAL | OMER | A
GAO | ZHUN | JULIE
GASSER | STEFAN | MARTIN
GASSER | THOMAS | PATRICK
GEORGE | ELIANE | FRANCES
GEORGE | MONIKA | ROBERTA
GILBERT | MICHAEL | CHARLES
GLICKMAN | MATTHEW | EVAN
GOH | NICHOLAS | KOON-YI
GOLDENBERG | MICHAEL |
GOODWIN | OLIVIA | INNES
GORDON | MYLES | ANDREW
GORMAN | JOANNE | YOUNG
GOU | JUSTIN |
GRAF | AUGUST | KARL
GRAF | KAROLINE | MADELEINE
GRAHAM | SUSAN | LOCHRIE
GRASSER | LINDY | LOU
GREELEY | CYNTHIA | MARGARET
GREEN | DAVID | GREGOR
GRIFFEL | TALI | GUREVITCH
GRIFFITH | READE | EUGENE
GRONAU | KAREN | ANN
GUENTERT | ANDREAS | CHRISTIAN
GUREVITCH | NIVA |
GUYOT | AMANDA | NATALIE
HAAS | PATRICK | JOHN
HACHADORIAN | GARY | DAVID
HACKER | INGEBORG |
HAIG | JOHN | GOWAN
HAMAR | MICHAEL | JOHN
HAMEL | KAREN | DOROTHE
HAN | MI | KYONG
HAQUE | YUSUF | RAZAUL
HASSAN | THOMAS | ANDREW
HAYES | CLAUDIA | ANNE ELISABETH
HEBB | LEILA | ANNE
HEGGENDORN | CHRISTINE | ANNE
HEGLAND | EVE | BARBARA
HEGNER-BINDSCHEDLER | MONIQUE | THERESE
HEIDELBERG | THAI-NIA | HANNIBAL
HEIDELBERG | UHURU | HELEN
HELGESTAD | DAG |
HELLER | OLIVIA | ALEXANDRA SARAH COSTER
HERMANN | THOMAS |
HERTACH-SCHMID | CHRISTINE | DIANA
HESS | STEFAN | ARMIN
HEUBACH | CARLOTTA | BENEDIKTE ANTONIA
HEWITT | RODNEY | JOSEPH
HILLIER | ALEXANDRA | VICTORIA CORINNA
HIROZAWA | JUN-ICHI |
HODEL | ALISA | JANE
HOFER | THOMAS | ERIC
HOFFMANN | GEORGE | ALBERT ALLEN
HOFMANN | CLAUDIA | ERIKA
HOFMANN | MARKUS | HAND
HONG | BO |
HOOFARD | NATHALIE | COLETTE MARIE
HOORNWEG | KAREN | LYNNE
HORISBERGER | JUDITH | MARY
HOWARD | GEOFFREY | JACOB
HOWE | EMMA | LOUISE
HOYT-GRIFFITH | ELIZABETH | JANE
HSU | CHIA | JUNG PHILINA
HUANG | CHARLOTTE | MAISIE
HUANG | HSI | MEI UH
HUANG | JENNIFER | PEI-LU
HUANG | LORRAINE | JI
HUANG | XUN |
HUESLER | ERIN | MICHELLE
HUGI | BARBARA | ANN C
HUI | KENNETH |
HUNG | STEPHANIE | YUJIE
HWANG | KIM |
HWANG | OLIVIA |
IKEOKA | MINAMI |
IMOBERSTEG | MARGUERITE | HELENE
IRLA | NATHALIE | MARIE
ISMANGIL | BAMBANG | PARIDJAKA
JACOBS | ARLENE | PATRICIA MARIE
JALAGAM | VINOD | KUMAR
JANSSEN | REBECCA | SUE
JENSEN | SUZANNE |
JIANG | BIN |
JOHARI | ZAIRIL | KHIR
JUBY | RUTH | ELLEN
KADDOUR | NACIM | OULD
KAN | TRACY | BI-YING
KAN | YU | SAN
KARAM | ELIE |
KASS | YAIR |
KATO | MAYA |
KATZ | NORBERT |
KAUFMAN | RONALD | ANDREW
KEBAILI | KENZA | HEDY
KELLER | KATHARINA | CHRISTINE
KELSEY | CHRISTINE | ANN
KENNEDY | JOHN | JOSEPH
KERN | FABIENNE | ELISABETH
KFOURY | DANY | ROGER
KIEFER-DICKS | DIANNE | JANET
KIKUCHI | MASATOSHI |
KING | JEREMY | BENNETT BIDDLE
KING | MATTHEW | JOHN
KINNEAR | KAY | MARGARET
KIRSCHNER | CAROL | ANN
KISHON | MANNIS | EITAN
KIYOKAWA | MITSUHIRO |
KOBAYASHI | EIJI |
KOENIG | ANGELICA | MARIA
KOHUT | CATHERINE | SAVAGE
KOLLY | VALERIE | CARMEN
KONINGS | NATALIE | MARIE
KOO | DANNY |
KORDA | MICHELLE | MARIE
KOSCHITZKY | ADIR | EPHRAIM
KOSTIC | ALEXANDER | ALEX
KOTCHOUBEY | ALEXANDER | ANDRE
KUAI | SHIRLEY | XUELEI
KULLMAN | CHRISTOFFER | NILS VICTOR
KUNSTLER | DENIS | DAVID
KUSUMOTO | KEIKO |
KUTSCHERA | MARC | MARTIN
KWAN | AMELYN | YEONG-NI
KWEE | PHILIP | KERPAN
KWOK | GARY | YAN KUEN
LACROIX | NARC | PIERRE
LAGACE | JASMINE | MARIE
LAGASSE | JEAN-FRANCOIS |
LAI | MUI | CHI-DONG
LAI | WAI | YI KONG
LAM | GEORGE | CHANGWEI
LAM | YIM | SHARON
LANDHEER | DENISE | SILVIA
LANG | MATHIAS | ALBRECHT
LANGLOIS | WILLIAM | CAMPBELL
LARKINS | LACHLAN | MILES DENT
LAUBINGER | ANNE | BARBARA
LAURENCE | LYS | C
LAUTERBURG | FRANCOISE | DANIELLE
LAUTERBURG | MARIANNE |
LAVELANET | NICOLAS | RICHARD
LEE | ALEX |
LEE | GEORGE |
LEE | GRACE | HUI MIN
LEE | JOHN | WEN-HAO
LEE | KUN | KWON
LEE | LORETTA | YIN WAI
LEE | MELVIN | YONG HUI
LEE | NELSON | CRAIG
LEE | STACY |
LEE | VICTORIA | LEUNG
LEHMANN | EDELTRAUT |
LEHMANN | RENE |
LERCH | TOBIAS | PHILIP
LESLAU | ORI | MARCUS
LESLIE | KATHRYN | JEAN
LEUNG | KENNETH | SAI KIT
LEUNG | TIFFANY | T Y
LI | ALVIN | YUOK-LUN
LI | SAI | PING KATE
LI | TSAI-YING |
LIANG | HAIDY | CHUHUEY
LIANG | SHEN | FU
LIBERATORE | SUZY | DEBRA HOOFARD
LICHTNER | MONICA | ANN
LIESCH | THOMAS | ANDREA
LIM | BEZNER | W J
LIM | JOEL | XUE-YI
LIN | DEBORAH |
LIN | HONG | YAO
LIN | HONG-LIEN |
LITTLEJOHN | DAVID | OLIVER
LITTLEJOHN | SCOTT | VERNON
LIU | CHARLIE | QIANLI
LIU | DAVID | TA-WEY
LO | NINA | YI-CHIEN
LO | RAYMOND | SHUI-LING
LOH | LUCAS | WEI-LUN
LONG | ANDREW | BRIAN
LOPEZ-MOLINA | LUIS | J
LOPPACHER | ANDREA | ELSBETH
LORMAN | SARAH | BENNETT
LOW | JOSEPHINE | EN-WEN
LU | SIMON | SHIN CHIEH
LU | YOH-CHIE |
LUCEY | CHARLES | EMMET
LUDER-SCHNETZLER | BRIGITTE | C
LUDWIG | WALTER | FRITZ
LUEBBERT | ANNETTE | JESSICA
LUI | CATHERINE | KAR WAI
LUSSER | ALINE | ELISABETH
MA | CLIFFORD |
MACE | CAROLINE | LOUISE
MAGEE | JAMES | ROBERT
MAN | ALISTAIR | CHAI-TIN
MARTELLI | KEVIN |
MARTIN | ROBERT |
MARTYN | ALAN | H
MASRI | DINA | M
MAUCH | CORINE | BARBARA
MAURER | YOLANDA | MONIKA
MAZREKU | ROCCO | JACK
MC CARRON | MARIE |
MC RORIE | JANICE | OLENE
MCINNES | JOYCE | CHRISTINE
MCINNES | LELAND | GRAEME
MENARY | DEBORAH | JEAN
MERINO | ALEX | MIGUEL
MIAO | NATALIE | MIN CHUN
MILLER | JOHN | H.
MINET | GENEVIEVE | AGNES MARIE HELENE GHISLAINE
MINKOWSKI | PATRICIA | JOLANDA
MOMIN | NEETA | ZAFAR
MORENES | FELIPE | LUIS
MORRIS | CHARLES | PATRICK
MOSER | CATHERINE | ANNE
MOSER | CHRISTIAN |
MOUTRAGI | BESSAM | A
MOUTRAGI | DIANA | V
MOUTRAGI | KARINE | B
MUELLER | ELISABETH |
MUELLER | MARIE | THERES
MUELLER | PATRICK | HERBERT
MUELLER | RENEE |
MUNSEY | ROSS | NEWTON
NAKAMURA | JOKU |
NASSER | ISSA | PATRICK
NEUEN | NATALIE | ANN
NEUMUELLER | SUSAN | ELIZABETH
NG | SUSAN | SUI SANG
NICHOLSON | JOHN | MARSHALL
NIGG | RENE |
NIGGLI | MICHELLE | ANNE
NIGGLI | NANCY | MARIE KOZOR
NUSSBAUM | AARON | BENNETT
OBERLANDER | JUDITH | ANTONIA ELEANOR
OETJEN | PHILIPP | GEORG HANS
OFFMAN | MILLICENT | HELENE
OLDNALL | ROBERT | JAMES
PADESTE | MYRIAM | ELIZABETH
PARK | CHUNG | MI
PARR | JAN | WALTER RUNDQUIST
PASKETT | STUART | GEORGE
PATERSON | JAMES | GEORGE
PATINO | VICKY | MARIA
PAYNE | DEBORAH | ANNE ELIZABETH
PEACOCK | JOANNE | LOUISE
PECK | NAOMI |
PEIRIS | UPALI | ANANDA
PERNER-WILSON | JACOB | BERNHARD
PERRY | JOHN | GERALD
PETER | STEVEN | ALEXANDER
PETERHANS | SUSAN | CHRISTINA
PETURSSON | GUDMUNDUR | RUNAR
PEYRE-PERRUCCIO | ALMA | ILEANA SOFIA
POHL | JERROL | ANN
POTDAR | DNYANADA | JAIDEEP
POTDAR | JAIDEEP | JAYANT
POYNER | MATTHEW | DAVID
PRAXMARER | ANNELIESE |
PRAXMARER | MARCEL | EVAN
PRAXMARER | MARTIN |
PREISING | ROBERT | CARL
PRICHARD | TIMOTHY | ALAN
PRICKETT | DAVID | JAMES
PRZYBILLA | MARION | SESSO
QUADERER | MAUREEN | THERESA
QUEK | RICHARD | GREGORY
QUINN | THOMAS | BRIAN
QUISTORFF | MIMA | RYERSON
RAGHANI | DHARAMDAS | NARAINDAS
RAILLARD | DANIEL | ANDREAS
RAILLARD | SUZANNE | DORA
RAJGURU | GOPAL | KAMALAKAR
RAJGURU | MADHAVI | GOPAL
RAPP | CATHERINE | ELISABETH
RAUSCHERT | CHRISTINA | THERESIA
RAUSCHERT | MARTIN | PAUL
RAUSCHERT | SABRINA | JO GERTRAUD
RAUSING | LUCY | MATILDA
REITTINGER | ANTONIUS | HANS PETER
RESENDE | MARIA | DE FATIMA GOMES
RICHARDS | BRADLEY | LANCE
RICHARDSON | VERA |
RICHTER | SYMI | M.
RIGLING-SPECKER | MARGARET | EGLAL
RODGERS | DREW | TELFAIR
ROESS | NICHOLAS | JOSEPH
ROMER | EVELYNE | DOROTHY
RONCARI | DANIELA | CLAUDINE
ROSENBERG | ANNE |
ROSENBERG | MICHAEL | GASTON
ROSSBOROUGH | DOMINIQUE | J
ROSSI | VALERIA | AMY
ROWLAND | BARCLAY | THOMAS
ROWLAND | HARLEY | JAMES
RUGGIERI | JULIEN |
RUTSCHE | ERIN | BARBARA
RUTSCHE | MAUREEN | TERESA
RYERSE | CYNTHIA | LOU
RYLAARSDAM | JOHN | COERT
SAESEN | SOPHIE | MARIE WILFRIED
SAHAKYAN | CATHRYN | MAQRUHI
SALISBURY | DONALD | LEE
SANFORD | HOLLY |
SANTAMATO | GIOVANNA | MARIA
SAUPE | JEAN | ELIZABETH
SAWCHENKO | LARRIAN | DARREL
SCHAAD | URS | PETER
SCHAERER | STEVEN | PATRICK
SCHEFER | RUTH |
SCHIEWE | KIRSTEN | HELEN
SCHINDLER | MARK | PETER
SCHMID | MARIE-HELENE | TALAYA
SCHNEIDER | BARBARA | SIGRUN
SCHNEIDER | DOMINIK |
SCHNEIDER | KATRIN | BETTINA URSULA
SCHNEIDER | LEE ANN | VANDERFORD
SCHNEIDER | PHILIP |
SCHNYDER | WALTER | JAY
SCHOEBITZ | MICHAEL | ANDRE
SCHULER | WALTER | AUGUST
SCHWANINGER | ROSA |
SEKII | SIMMON | YUICHI
SHAMIR | TAMAR | IDA
SHEEL | JEFFRY | PIERRE
SHEELER | DEREK | KENT
SHEHADEH | NICK | FUAD
SHEPARD | REBECCA | JO
SHIAU | SHIAN | PING
SHIAU | YUAN |
SHONG | JESSE | TAKAOKI
SIM | VENUS | YUN-YI
SIMONS | ERIK | JOHAN
SIMPSON | ALAINE | VALERIE
SINGHVI | NITIN | K
SMITH | ALEXANDRA | PATRICIA ELIZABETH
SOELBERG | ANNE | LISE DELPHIN
SOERENSEN | CHRISTIAN | ELLIOT
SONG | DAVID | TSYY-YU
SONG | OU | YANG
SONG | WEN | JOE
SORIO | GWYNNE | MARIA CLAIRE
SPIELMAN | MARK | DAVID
SPUCKES | DANIELLE |
SRINIVASAN | RAMA |
STAEHLI | PATRICE | JEROME
STAEMPFLI | EDWARD | PETER
STAHL | HANSPETER |
STANISAUSKIS | MICHELLE | LEE
STANISLAS-STEVENS | ROSALIND | SARA
STEIMER | GAIL | ELEANOR HENRY
STEINACHER | EVELYN | JUDITH
STEINER | MAY | NADINE
STEPHAN | YANN | ERWAN LOIC
STILLER | BERTA | ANNA
STOECKER | ALLISON | ELIZABETH JEFFREY
STOKKE | JUDITH | RAE
STORI | SYLVIA | KAROLINA
STREL | JO | ANNE
STRICKER | THOMAS | MATTHEW
SUEN | PHILIP | CHI-KIN
SWA | WENDY | WEN HUI
SWITZERLAND | GLAERNISCHSTRASSE 12C | STAEFA
TAI | DAISY | CHIH YI
TAKANO | MICHAEL | ALLEN
TAM | VIVIAN | PUI-MAN
TAMWORTH | RENATE | RUTH
TAN | CEDRICK | JON ANG
TANG | TOM | CHUNG-YEN
TANNER | SELINA |
TEBBE | YVONNE |
TESSORE | MICHEL | STEVE
THALER-HASE | CHRISTINE | SOCIN
THALMANN | BRIGIT | ANNEMARIE HAFFTER
THIEL | WERNER | GUENTHER
THONG | CARL | CHIA LIN
TIDSWELL | IAN | MICHAEL
TIMMONS | TORI |
TIMOR | TAL | GOTSHAL
TOMACELLI | EDUARDO | MARIA
TRAUTMANN | GREGORY | JOSEPH
UH | ZU-SCHON |
VALENTINI | CHRISTIAN | ANDRE
VAN LOON | ADRIAAN | GEERT
VAN NOORD | DENNIS | WOULTER
VAN VOOREN | BARBARA | ANNE WILSON
VANCURA-INEICHEN | JOHANNE | MARIE
VARINI | MICHELA | BRUNA
VAUGHAN | JOHN | CARTER
VENIAMIS | ELEFTHERIOS | MICHAEL
VENIAMIS | ZANNIS | M
VENKATESWAR | SRINATH | KRISHNAN
VERONESE | MARIA | LUISA
VIRIOT | HUBERT | ROMARY
VITAL | NOT |
VOGEL | ANITA | SABINE
VOGEL | CHRISTINE | SILVIA
VOGELSANG | ROBERT | ANDREW
VOLKER | CRAIG | ALAN
VON ARX | PATRICK | ROGER
VON CROY | ALEXANDER | PRINZ
VON SCHONBORN-WIESENTHEID | CLEMENS | FRANZ
WANG | AI |
WANG | CHIU | FONG
WANG | CHI-YUN |
WANG | JEFF | CHIHYEN
WANG | KEVIN |
WANG | PAO-CHING | CHANG
WANG | TIFFANY | MIN
WANG | YNG-FU |
WASSON | SUSANNE | ULLA MARIE
WATTERS | BRIAN |
WEBER | CORINNE | PATRICIA
WEBER | GERTRUD |
WEBSTER | ROSS | DAVID
WEI | XIU | QING
WEISS | BEVERLY | HAROLDSON
WENNING | EDWARD | FRANCIS
WEY | TING |
WIELER | IGOR | B
WILHELM | CARINE | J
WILHELM | JOHN | ARTHUR
WILKEY | TONY | PAUL
WILLAME | JEAN-FRANCOIS | CLAUDE
WILLI | MICHELE | CHRISTINE
WIRES | WILLIAM | JAMES
WOLF | GABRIELLA | BRIGITTA
WONG | SU-YEN |
WUTHRICH | STEFANIE | JENNIFER
YANG | RUI |
YASUDA | AI | FRANCES
YAU | STEPHEN | KWOK HO
YEO | SAMANTHA | GIA XIN
YEUNG | QUEENIE | WAN MAN
YIN | HSIANG |
YOUNG | ALAN | CHUNG-RAN
YOUNG | SALLY |
YUKIZAWA | YOUHEI |
YUNG | JOHN | CON SING
ZADOTTI | MARET | JANE
ZAFAR-BAKHTIAR | KAYGHOBAD |
ZARIN | HEATH | BRIAN
ZHANG | DAVID |
ZHANG | DONG | HUI
ZHOU | KUANG-TAO |
ZOGG | WILLIAM | ANTHONY

Dated: January 24, 2014.
Maureen Manieri,
Manager Team 103, Examinations Operations—Philadelphia Compliance Services.

[FR Doc. 2014-02672 Filed 2-6-14; 8:45 am]

BILLING CODE 4830-01-P